DEPARTMENT OF COMMERCE

National Oceanic and Atmospheric Administration

Science Advisory Board

AGENCY: National Oceanic and Atmospheric Administration (NOAA), Department of Commerce (DOC).

ACTION: Notice of public meeting.

SUMMARY: This notice sets forth the schedule and proposed agenda for the meeting of the Science Advisory Board (SAB). The members will discuss issues outlined in the section on Matters to be considered.

DATES: The meeting is scheduled for March 15, 2021 from 1:00 p.m. to 5:00 p.m. (EDT) and March 17, 2021 from 1:00 p.m. to 5:00 p.m. (EDT). This time and the agenda topics described below are subject to change.

For the latest agenda please refer to the SAB website: http://sab.noaa.gov/SABMeetings.aspx.

ADDRESSES: This is a virtual meeting. The webinar registration links for the March 15 and 17, 2021 meeting may be found on the website at http://sab.noaa.gov/SABMeetings.aspx.

FOR FURTHER INFORMATION CONTACT: Dr. Cynthia Decker, Executive Director, SSMC3, Room 11230, 1315 East-West Hwy., Silver Spring, MD 20910; Phone Number: 301-734-1156; Email: Cynthia.Decker@noaa.gov; or visit the SAB website at http://sab.noaa.gov/SABMeetings.aspx.

SUPPLEMENTARY INFORMATION: The NOAA Science Advisory Board (SAB) was established by a Decision Memorandum dated September 25, 1997, and is the only Federal Advisory Committee with responsibility to advise the Under Secretary of Commerce for Oceans and Atmosphere on strategies for research, education, and application of science to operations and information services. SAB activities and advice provide necessary input to ensure that National Oceanic and Atmospheric Administration (NOAA) science programs are of the highest quality and provide optimal support to resource management.

STATUS: The March 15 and 17, 2021 meeting will be open to public participation with a 15-minute public comment period at 4:45 p.m. EST on March 15. The SAB expects that public statements presented at its meetings will not be repetitive of previously submitted verbal or written statements. In general, each individual or group making a verbal presentation will be limited to a total time of three minutes. Written comments for the March 15 and 17, 2021 meeting should be received in the SAB Executive Director's Office by March 1, 2021 to provide sufficient time for SAB review. Written comments received by the SAB Executive Director after this date will be distributed to the SAB, but may not be reviewed prior to the meeting date.

SPECIAL ACCOMMODATIONS: This meeting is physically accessible to people with disabilities. Requests for special accommodations may be directed to the Executive Director no later than 12 p.m. on March 1, 2021.

MATTERS TO BE CONSIDERED: The meeting on March 15 and 17, 2021 will include (1) NOAA Update; (2) NOAA Response to SAB Report: Data Archive and Access Requirements Working Group on Preparing for a Cloudy Future; (3) NOAA Response to SAB Report: Ecosystem Sciences and Management Working Group Report on Improving Fish Stock Assessments: A Report on Emerging Stock Assessment Technologies; (4) Update on Diversity, Equity, and Inclusion Discussion; (5) NOAA Response to CWG Subseasonal-to-Seasonal-to-Decadal (S2S2D): A Pathway to Improved Prediction White Paper; (6) SAB Climate Working Group Advancing Earth Systems Prediction White Paper; (7) SAB Ecosystem Sciences and Management Working Group Report on Decision Making Under Deep Uncertainty (DMDU); and (8) Update on SAB Work Plan Priority Topics. The full agenda will be published on the SAB website. Meeting materials, including work products, will also be available on the SAB website: http://sab.noaa.gov/SABMeetings.aspx.

Dated: January 29, 2021.
David Holst,
Director Chief Financial Officer/CAO, Office of Oceanic and Atmospheric Research, National Oceanic and Atmospheric Administration.

[FR Doc. 2021-02578 Filed 2-8-21; 8:45 am]

BILLING CODE 3510-KD-P